DEPARTMENT OF HEALTH AND HUMAN SERVICES

Centers for Disease Control and Prevention

[30Day-16-0943]

Agency Forms Undergoing Paperwork Reduction Act Review

The Centers for Disease Control and Prevention (CDC) has submitted the following information collection request to the Office of Management and Budget (OMB) for review and approval in accordance with the Paperwork Reduction Act of 1995. The notice for the proposed information collection is published to obtain comments from the public and affected agencies.

Written comments and suggestions from the public and affected agencies concerning the proposed collection of information are encouraged. Your comments should address any of the following: (a) Evaluate whether the proposed collection of information is necessary for the proper performance of the functions of the agency, including whether the information will have practical utility; (b) Evaluate the accuracy of the agencies estimate of the burden of the proposed collection of information, including the validity of the methodology and assumptions used; (c) Enhance the quality, utility, and clarity of the information to be collected; (d) Minimize the burden of the collection of information on those who are to respond, including through the use of appropriate automated, electronic, mechanical, or other technological collection techniques or other forms of information technology, e.g., permitting electronic submission of responses; and (e) Assess information collection costs.

To request additional information on the proposed project or to obtain a copy of the information collection plan and instruments, call (404) 639-7570 or send an email to omb@cdc.gov. Written comments and/or suggestions regarding the items contained in this notice should be directed to the Attention: CDC Desk Officer, Office of Management and Budget, Washington, DC 20503 or by fax to (202) 395-5806. Written comments should be received within 30 days of this notice.

Proposed Project

Data Collection for the Residential Care Community and Adult Day Service Center Components of the National Study of Long-Term Care Providers (OMB Control No. 0920-0943)—Reinstatement with change—National Center for Health Statistics (NCHS), Centers for Disease Control and Prevention (CDC).

Background and Brief Description

Section 306 of the Public Health Service (PHS) Act (42 U.S.C. 242k), as amended, authorizes that the Secretary of Health and Human Services (DHHS), acting through NCHS, “shall collect statistics on health resources . . . [and] utilization of health care, including extended care facilities, and other institutions.”

NCHS seeks approval to collect data for the residential care community (RCC) and adult day services center (ADSC) survey components of the third wave of the National Study of Long-Term Care Providers (NSLTCP). A two-year clearance is requested.

The NSLTCP is designed to (1) broaden NCHS' ongoing coverage of paid, regulated long-term care (LTC) services; (2) merge with existing administrative data on LTC providers and service users (i.e. Centers for Medicare and Medicaid Services (CMS) data on nursing homes and residents, home health agencies and patients, and hospices and patients); (3) update data more frequently on LTC providers and service users for which nationally representative administrative data do not exist; and (4) enable comparisons across LTC sectors and timely monitoring of supply, use, and key characteristics of these sectors over time.

Data will be collected from two types of LTC providers in the 50 states and the District of Columbia: 11,690 RCCs and 5,440 ADSCs. Data were collected in 2012 and 2014. The data to be collected beginning in 2016 include the basic characteristics, services, staffing, and practices of RCCs and ADSCs; and aggregate-level distributions of the demographics, selected health conditions and health care utilization, physical functioning, and cognitive functioning of RCC residents and ADSC participants.

Expected users of data from this collection effort include, but are not limited to CDC; other Department of Health and Human Services (DHHS) agencies, such as the Office of the Assistant Secretary for Planning and Evaluation, the Office of the National Coordinator for Health Information Technology, and the Administration for Community Living; associations, such as LeadingAge (formerly the American Association of Homes and Services for the Aging), National Center for Assisted Living, American Seniors Housing Association, Argentum (formerly the Assisted Living Federation of America), and National Adult Day Services Association; universities; foundations; and other private sector organizations such as the Alzheimer's Association and the AARP Public Policy Institute.

Expected burden from data collection is 30 minutes per respondent. We estimate that 5% of RCC and ADSC directors will be called for an additional 5 minutes of data retrieval when there are errors or omissions in their returned questionnaires.

The burden for the collection is shown in the Table below. As a result of the addition, deletion, and revision of select items, along with the development of two versions of the questionnaires for both the directors of RCCs and ADSCs, this submission includes 4,310 burden hours, a reduction of 4,626 hours since the previously approved information collection.

There is no cost to respondents other than their time to participate.

Estimated Annualized Burden Hours
Type of respondents | Form name | Number of respondents | Number of responses per respondent | Average burden per response (in hours)
RCC Director/Designated Staff Member | RCC Questionnaire—Version A | 2,923 | 1 | 30/60
RCC Director/Designated Staff Member | RCC Questionnaire—Version B | 2,923 | 1 | 30/60
ADSC Director/Designated Staff Member | ADSC Questionnaire—Version A | 1,350 | 1 | 30/60
ADSC Director/Designated Staff Member | ADSC Questionnaire—Version B | 1,350 | 1 | 30/60
RCC and ADSC Directors/Designated Staff Members | Data Retrieval | 428 | 1 | 5/60

Leroy A. Richardson,
Chief, Information Collection Review Office, Office of Scientific Integrity, Office of the Associate Director for Science, Office of the Director, Centers for Disease Control and Prevention.

[FR Doc. 2016-09188 Filed 4-20-16; 8:45 am]

BILLING CODE 4163-18-P